DEPARTMENT OF JUSTICE

Antitrust Division

Notice Pursuant to the National Cooperative Research and Production Act of 1993—Clean Metal Nucleated Casting (CMNC) of Superalloys

Notice is hereby given that, on January 4, 2002, pursuant to Section 6(a) of the National Cooperative Research and production Act of 1993, 15 U.S.C. § 4301 et seq. (“the Act”), Clean Metal Nucleated Casting (CMNC) of Superalloys has filed written notifications simultaneously with the Attorney General and the Federal Trade Commission disclosing (1) the identities of the parties and (2) the nature and objectives of the venture. The notifications were filed for the purpose of involving the Act's provisions limiting the recovery of antitrust plaintiffs to actual damages under specified circumstances. Pursuant to Section 6(b) of the Act, the identities of the parties are Allvac, Monroe, NC and GE Corporate Research and Development Niskayuana, NY. The nature and objectives of the venture are to develop and demonstrate clean metal nucleated casting of superalloys. The activities of this project will be partially funded by an award from the Advanced Technology Program, National Institute of Standards and Technology, Department of Commerce.

Constance K. Robinson,
Director of Operations, Antitrust Division.

[FR Doc. 02-2854 Filed 2-5-02; 8:45 am]

BILLING CODE 4410-01-M